DEPARTMENT OF JUSTICE

[OMB 1140-0052]

Agency Information Collection Activities; Proposed eCollection eComments Requested; Revision of a Previously Approved Collection; Office of Strategic Management Environmental Assessment Outreach

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until March 3, 2025.

FOR FURTHER INFORMATION CONTACT: If you have additional comments especially on the estimated public burden or associated response time, suggestions, or need a copy of the proposed information collection instrument with instructions or additional information, contact: Jeffrey Hosmer, Office of Strategic Management, either by mail at Bureau of Alcohol, Tobacco, Firearms and Explosives, 99 New York Avenue NE, Rm. 5E-409, Washington, DC 20226, by email at Jeffrey.hosmer@atf.gov or telephone at 202-648-7132.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under the Government Performance and Results Modernization Act of 2010, ATF must update its strategic plan every four years and identify key external factors that could significantly affect their ability to achieve strategic goals and objectives. For this purpose, ATF conducts outreach for feedback from ATF stakeholders as part of the Bureau's quadrennial assessment process. Information Collection (IC) OMB 1140-0052 is being revised to include the monetized value of respondent time in this renewal (from $0 to $535), which was not previously included. There has also been a decrease in the number of respondents over time, from 1,500 to 47 and a reduction in the collective hour burden from 450 hours to 2 hours.

Overview of This Information Collection

1. Type of Information Collection: Revision of a previously approved collection.

2. The Title of the Form/Collection: Office of Strategic Management Environmental Assessment Outreach.

3. The agency form number, if any, and the applicable component of the Department sponsoring the collection: Form number: None.

Component: Bureau of Alcohol, Tobacco, Firearms and Explosives, U.S. Department of Justice.

4. Affected public who will be asked or required to respond, as well as the obligation to respond: Affected Public: State, local and tribal governments, Private Sector-for or not for profit institutions, Federal Government.

The obligation to respond is voluntary.

5. An estimate of the total number of respondents and the amount of time estimated for an average respondent to respond: An estimated 7 respondents will respond to this collection once annually, and it will take each respondent approximately 0.3 hours to complete their responses.

6. An estimate of the total annual burden (in hours) associated with the collection: The estimated annual public burden associated with this collection is 2 hours total, which is equal to 7 (total respondents) * 1 (# of response per respondent) * 0.3 (hours).

7. An estimate of the total annual cost burden associated with the collection, if applicable: $535.00.

Total Burden Hours
Activity | Number of respondents | Frequency | Total annual responses | Time per response (hours) | Total annual burden (hours)
Respond to Questionnaire | 7 | 1/annually | 7 | 0.3 | 2
Unduplicated Totals | 7 | 1/annually | 7 | 0.3 | 2

If additional information is required contact: Darwin Arceo, Department Clearance Officer, United States Department of Justice, Justice Management Division, Policy and Planning Staff, Two Constitution Square, 145 N Street NE, 4W-218, Washington, DC.

Dated: December 26, 2024.
Darwin Arceo,
Department Clearance Officer for PRA, U.S. Department of Justice.

[FR Doc. 2024-31455 Filed 12-31-24; 8:45 am]

BILLING CODE 4410-FY-P